COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds services to the Procurement List that will be furnished by nonprofit agencies employing persons who are blind or have other severe disabilities, and deletes products and services from the Procurement List previously furnished by such agencies.

DATES: Date added to and deleted from the Procurement List: September 27, 2020.

ADDRESSES: Committee for Purchase From People Who Are Blind or Severely Disabled, 1401 S. Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 7/17/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 8501-8506) in connection with the services proposed for addition to the Procurement List.

End of Certification

Accordingly, the following services are added to the Procurement List:

Service

Service Type: 4PL Support Services

Mandatory for: Naval Base Ventura County, Port Hueneme, CA

Mandatory Source of Supply: The Lighthouse for the Blind, Inc. (Seattle Lighthouse), Seattle, WA

Contracting Activity: FEDERAL ACQUISITION SERVICE, GSA/FAS

Deletions

On 7/24/2020, the Committee for Purchase From People Who Are Blind or Severely Disabled published notice of proposed deletions from the Procurement List. This notice is published pursuant to 41 U.S.C. 8503 (a)(2) and 41 CFR 51-2.3.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

8415-01-587-9853—Drawers, Underwear, Midweight Fire Retardant, FREE, Army, Desert Sand, XSS

8415-01-587-9855—Drawers, Underwear, Midweight Fire Retardant, FREE, Army, Desert Sand, XSR

8415-01-587-9858—Drawers, Underwear, Midweight Fire Retardant, FREE, Army, Desert Sand, XSL

8415-01-587-9863—Drawers, Underwear, Midweight Fire Retardant, FREE, Army, Desert Sand, SS

8415-01-587-9866—Drawers, Underwear, Midweight Fire Retardant, FREE, Army, Desert Sand, SR

8415-01-588-0254—Drawers, Underwear, Midweight Fire Retardant, FREE, Army, Desert Sand, SL

8415-01-588-0259—Drawers, Underwear, Midweight Fire Retardant, FREE, Army, Desert Sand, MS

8415-01-588-0261—Drawers, Underwear, Midweight Fire Retardant, FREE, Army, Desert Sand, MR

8415-01-588-0269—Drawers, Underwear, Midweight Fire Retardant, FREE, Army, Desert Sand, ML

8415-01-588-0270—Drawers, Underwear, Midweight Fire Retardant, FREE, Army, Desert Sand, LS

8415-01-588-0273—Drawers, Underwear, Midweight Fire Retardant, FREE, Army, Desert Sand, LR

8415-01-588-0283—Drawers, Underwear, Midweight Fire Retardant, FREE, Army, Desert Sand, LL

8415-01-588-0290—Drawers, Underwear, Midweight Fire Retardant, FREE, Army, Desert Sand, XLS

8415-01-588-0292—Drawers, Underwear, Midweight Fire Retardant, FREE, Army, Desert Sand, XLR

8415-01-588-0300—Drawers, Underwear, Midweight Fire Retardant, FREE, Army, Desert Sand, XLL

8415-01-588-0308—Drawers, Underwear, Midweight Fire Retardant, FREE, Army, Desert Sand, XXLS

8415-01-588-0313—Drawers, Underwear, Midweight Fire Retardant, FREE, Army, Desert Sand, XXLR

8415-01-588-0315—Drawers, Underwear, Midweight Fire Retardant, FREE, Army, Desert Sand, XXLL

Mandatory Source of Supply: New Horizons Rehabilitation Services, Inc., Auburn Hills, MI

Contracting Activity: W6QK ACC-APG NATICK, NATICK, MA

NSN(s)—Product Name(s):

8415-01-548-7187—Shirt, Combat, Advanced, Foliage Green, X-Small

8415-01-548-7201—Shirt, Combat, Advanced, Foliage Green, Small

8415-01-548-7206—Shirt, Combat, Advanced, Foliage Green, Medium

8415-01-548-7209—Shirt, Combat, Advanced, Foliage Green, Large

8415-01-548-7215—Shirt, Combat, Advanced, Foliage Green, XX-Large

8415-01-548-7232—Shirt, Combat, Advanced, Foliage Green, X-Large

8415-01-548-7236—Shirt, Combat, Advanced, Foliage Green, XXX-Large

Mandatory Source of Supply: Alphapointe, Kansas City, MO; Goodwill Industries of South Florida, Inc., Miami, FL; Mount Rogers Community Services Board, Wytheville, VA; San Antonio Lighthouse for the Blind, San Antonio, TX; Southeastern Kentucky Rehabilitation Industries, Inc., Corbin, KY; Winston-Salem Industries for the Blind, Inc., Winston-Salem, NC

Contracting Activity: W6QK ACC-APG NATICK, NATICK, MA

NSN(s)—Product Name(s):

8415-01-580-4831—Shirt, Combat, Flame Resistant, OEF Camouflage, X-Small

8415-01-580-4836—Shirt, Combat, Flame Resistant, OEF Camouflage, Small

8415-01-580-4853—Shirt, Combat, Flame Resistant, OEF Camouflage, Medium

8415-01-580-4856—Shirt, Combat, Flame Resistant, OEF Camouflage, Large

8415-01-580-4863—Shirt, Combat, Flame Resistant, OEF Camouflage, X-Large

8415-01-580-4865—Shirt, Combat, Flame Resistant, OEF Camouflage, XX-Large

8415-01-580-4870—Shirt, Combat, Flame Resistant, OEF Camouflage, XXX-Large

Mandatory Source of Supply: Alphapointe, Kansas City, MO; Goodwill Industries of South Florida, Inc., Miami, FL; Mount Rogers Community Services Board, Wytheville, VA; San Antonio Lighthouse for the Blind, San Antonio, TX; Southeastern Kentucky Rehabilitation Industries, Inc., Corbin, KY; Winston-Salem Industries for the Blind, Inc., Winston-Salem, NC

Contracting Activity: W6QK ACC-APG NATICK, NATICK, MA

NSN(s)—Product Name(s):

MR 1013—Set, Dustpan and Broom, Long Handle

Mandatory Source of Supply: LC Industries, Inc., Durham, NC

Contracting Activity: DEFENSE COMMISSARY AGENCY, FORT LEE, VA

NSN(s)—Product Name(s):

MR 388—Lint Roller

MR 389—Lint Roller Refill

Mandatory Source of Supply: Alphapointe, Kansas City, MO

Contracting Activity: Military Resale-Defense Commissary Agency

NSN(s)—Product Name(s):

MR 1011—Mini Duster, Chenille Microfiber, Red

Mandatory Source of Supply: Industries for the Blind and Visually Impaired, Inc., West Allis, WI

Contracting Activity: Military Resale-Defense Commissary Agency

Services

Service Type: Base Supply Center

Mandatory for: US Air Force, Elmendorf AFB, Joint Base Elmendorf-Richardson, AK

Mandatory Source of Supply: RLCB, Inc., Raleigh, NC

Contracting Activity: FEDERAL ACQUISITION SERVICE, GSA/FAS

Service Type: Recycling Service

Mandatory for: Scott Air Force Base (Basewide): 375th CONS/LGC 201 E. Winters Street, Bldg 50, Scott AFB, IL

Mandatory Source of Supply: Challenge Unlimited, Inc., Alton, IL

Contracting Activity: DEPT OF THE AIR FORCE, FA4407 375 CONS LGC

Service Type: Grounds Maintenance

Mandatory for: DC Air National Guard, Andrews AFB, MD

Mandatory Source of Supply: Melwood Horticultural Training Center, Inc., Upper Marlboro, MD

Contracting Activity: DEPT OF THE AIR FORCE, FA7014 AFDW PK

Michael R. Jurkowski,
Deputy Director, Business & PL Operations.

[FR Doc. 2020-19021 Filed 8-27-20; 8:45 am]

BILLING CODE 6353-01-P